FEDERAL MARITIME COMMISSION

Notice of Agreements Filed

The Commission hereby gives notice of the filing of the following agreement under the Shipping Act of 1984. Interested parties may submit comments on the agreements to the Secretary, Federal Maritime Commission, Washington, DC 20573, within ten days of the date this notice appears in the Federal Register. Copies of agreements are available through the Commission's Web site (http://www.fmc.gov) or by contacting the Office of Agreements at (202)-523-5793 or tradeanalysis@fmc.gov.

Agreement No.: 011689-012.

Title: Zim/CSCL Slot Charter Agreement.

Parties: Zim Integrated Shipping Services, Ltd.; China Shipping Container Line Co., Ltd.; and China Shipping Container Lines (Hong Kong) Co., Ltd.

Filing Party: Tara L. Leiter, Esq.; Blank Rome LLP; 1600 New Hampshire Avenue, NW.; Washington, DC 20037.

Synopsis: The amendment increases CSCL's allocation on Zim's Asia/U.S. East Coast service and revises the terms by which the parties may terminate the agreement.

Agreement No.: 012034-003.

Title: Hamburg Sud/Maersk Line Vessel Sharing Agreement.

Parties: Hamburg-Sud and A.P. Moeller-Maersk A/S.

Filing Party: Wayne Rohde, Esq.; Cozen O'Connor; 1627 I Street, NW.; Suite 1100; Washington, DC 20006.

Synopsis: The amendment would revise the amount of capacity provided by Maersk Line and revise the space allocations accordingly.

Agreement No.: 012125.

Title: Maersk/Evergreen Slot Exchange Agreement.

Parties: A.P. Moller-Maersk A/S and Evergreen Line Joint Service Agreement.

Filing Parties: Wayne Rohde, Esq.; Cozen O'Connor; 1627 I Street, NW.; Suite 1100; Washington, DC 20006.

Synopsis: The agreement authorizes the parties to exchange slots on their respective services from Japan and Taiwan to ports in California.

Agreement No.: 201048-007.

Title: Lease and Operating Agreement between Philadelphia Regional Port Authority and Delaware River Stevedores, Inc.

Parties: Philadelphia Regional Port Authority and Delaware River Stevedores, Inc.

Filing Party: Paul D. Coleman, Esq.; Hoppel, Mayer & Coleman; 1050 Connecticut Avenue, NW., Tenth Floor; Washington, DC 20036.

Synopsis: The amendment provides for the assessment of dockage and wharfage charges for loading and unloading non-military passenger autos at the Port.

By Order of the Federal Maritime Commission.
Dated: April 15, 2011.
Rachel E. Dickon,
Assistant Secretary.

[FR Doc. 2011-9622 Filed 4-19-11; 8:45 am]

BILLING CODE 6730-01-P